DEPARTMENT OF DEFENSE

Department of the Army

[Docket ID: USA-2022-HQ-0015]

Proposed Collection; Comment Request

AGENCY: Department of the Army, Department of Defense (DoD).

ACTION: 60-Day information collection notice.

SUMMARY: In compliance with the Paperwork Reduction Act of 1995, the U.S. Army Training and Doctrine Command, G3/5/7 announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 26, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the US Army G-1, Directorate of Personnel Management, ATTN: Scott Wood, ACQUIRE Systems Manager, 1D367, 300 Pentagon, Washington DC 20301, email to scott.e.wood3.civ@army.mil or call (730) 695-7520.

SUPPLEMENTARY INFORMATION:

Title; Associated Form; and OMB Number: Army Recruiting Information: Army Recruiting Information Support System and Accessions Information Environment; OMB Control Number 0702-AAIE.

Needs and Uses: The required collection of information provides U.S. Army field recruiters with an automated tool to collect information on all prospective U.S. Army, Army Reserve, Army National Guard, Army Cadet Command, U.S. Army Military Academy candidates, enlistees, officers and health profession personnel voluntarily requesting entrance into active duty. The required information collected is used to create the initial personnel record/data to prescreen perspective applicants, line officers and health professionals to determine if they meet established mandated qualifications for induction and processing into the U.S. Army. The information is also collected to process security clearances for those individuals requiring clearances for sensitive and classified positions.

Affected Public: Individuals or households.

Annual Burden Hours: 1,000,000.

Number of Respondents: 250,000.

Responses per Respondent: 1.

Annual Responses: 250,000.

Average Burden per Response: 4 hours.

Frequency: On occasion.

The respondents are recruiting applicants (accessions) which includes, civilians, veterans and cross component recruits. Other collection instruments/documents are completed by applicants and recruiters into the system of record as applicable to their recruiting and application purposes. All completed instruments of the collection reside in the system of record which has safeguards in place to protect privacy information. Both the electronic online Army Recruiting Information Support System (ARISS) and Accessions Information Environment (AIE) systems provide a comprehensive integration, interface and standardization of all programs that manage personnel resources in support of recruiting and collecting personnel private information to induct Army applicants into the U.S. Army. The current (legacy) system ARISS, will eventually be subsumed by the emergent AIE system.

Dated: July 20, 2022.
Aaron T. Siegel,
Alternate OSD Federal Register Liaison Officer, Department of Defense.

[FR Doc. 2022-15951 Filed 7-25-22; 8:45 am]

BILLING CODE 5001-06-P